ENVIRONMENTAL PROTECTION AGENCY

[EPA-HQ-OAR-2004-0077; FRL-9915-87-OEI]

Information Collection Request Submitted to OMB for Review and Approval; Comment Request; Significant New Alternatives Policy (SNAP) Program (Renewal)

AGENCY: Environmental Protection Agency (EPA).

ACTION: Notice.

SUMMARY: The Environmental Protection Agency has submitted an information collection request (ICR), “Significant New Alternatives Policy (SNAP) Program (40 CFR part 82, subpart G) (Renewal)” (EPA ICR No. 1596.09, OMB Control No. 2060-0226) to the Office of Management and Budget (OMB) for review and approval in accordance with the Paperwork Reduction Act (44 U.S.C. 3501 et seq.). This is a proposed extension of the ICR, which is currently approved through August 30, 2014. Public comments were previously requested via the Federal Register (79 FR 15994) on March 24, 2014 during a 60-day comment period. No comments were received. This notice allows for an additional 30 days for public comments. A fuller description of the ICR is given below, including its estimated burden and cost to the public. An Agency may not conduct or sponsor and a person is not required to respond to a collection of information unless it displays a currently valid OMB control number.

DATES: Additional comments may be submitted on or before September 26, 2014.

ADDRESSES: Submit your comments, referencing Docket ID Number EPA-HQ-OAR-2004-0077, to (1) EPA online using www.regulations.gov (our preferred method), by email to a-and-r-docket@epa.gov, or by mail to: EPA Docket Center, Environmental Protection Agency, Mail Code 28221T, 1200 Pennsylvania Ave. NW., Washington, DC 20460, and (2) OMB via email to oira_submission@omb.eop.gov. Address comments to OMB Desk Officer for EPA. EPA's policy is that all comments received will be included in the public docket without change including any personal information provided, unless the comment includes profanity, threats, information claimed to be CBI or other information whose disclosure is restricted by statute.

FOR FURTHER INFORMATION CONTACT: Rebecca von dem Hagen, Environmental Protection Agency, Stratospheric Protection Division, Office of Atmospheric Programs, MC 6205T, Environmental Protection Agency, 1200 Pennsylvania Ave. NW., Washington, DC 20460; telephone number: (202) 343-9445; email address: vondemhagen.rebecca@epa.gov.

SUPPLEMENTARY INFORMATION: Supporting documents which explain in detail the information that the EPA will be collecting are available in the docket. The docket can be viewed at www.regulations.gov or at the EPA Docket Center, WJC West, Room 3334, 1301 Constitution Ave. NW., Washington, DC. The telephone number for the Docket Center is 202-566-1744. For further information about EPA's public docket, visit http://www.epa.gov/dockets.

Abstract: Information collected under the SNAP program is intended to fulfill the general mandate in Section 612(c) that states the Administrator shall promulgate rules providing that it shall be unlawful to replace any class I or class II substance with any substitute substance which the Administrator determines may present adverse effects to human health or the environment, where the Administrator has identified an alternative to such replacement that (1) reduces the overall risk to human health and the environment; and (2) is currently or potentially available.

The SNAP program, based on information collected from the manufacturers, formulators, and/or sellers of such substitutes, identifies acceptable substitutes. Responses to the collection of information are mandatory under Section 612 for anyone who sells or, in certain cases, uses substitutes for an ozone-depleting substance after April 18, 1994. Steps to protect confidentiality of information collected under the SNAP program are based on EPA's confidentiality regulations (40 CFR 2.201 et seq.). Submitters may designate all or portions of their forms or petitions as confidential, and must substantiate their claim of confidentiality. Under CAA Section 114(c), emissions information may not be claimed as confidential.

To develop the lists of acceptable and unacceptable substitutes, EPA must assess and compare “overall risks to human health and the environment” posed by use of substitutes in the context of particular applications. EPA requires submission of information covering a wide range of health and environmental factors, including intrinsic properties such as physical and chemical information, ozone depleting potential, global warming potential, toxicity, and flammability, and use-specific data such as substitute applications, process description, environmental release data, exposure data during use of a substitute, environmental fate and transport, and cost information. Any substitute which is a new chemical must also be submitted to EPA under the New Chemicals program under the Toxic Substances Control Act (TSCA). Alternatives that will be used as sterilants must be filed jointly with EPA's Office of Pesticide Programs and with SNAP.

Form Numbers: 1265-14.

Respondents/affected entities: Manufacturers, importers, formulators, and processors of substitutes for ozone-depleting substances.

Respondent's obligation to respond: Mandatory (40 CFR 82.176).

Estimated number of responses: 212 (per year).

Frequency of response: Annual.

Total estimated burden: 6,371 hours (per year). Burden is defined at 5 CFR 1320.03(b).

Total estimated cost: $488,007 (per year), includes $22,800 annualized start-up/O&M costs.

Burden estimate: For persons filing a SNAP Information Notice or petition, the reporting burden is estimated at 165 hours per year. For persons filing a TSCA/SNAP Addendum, the reporting burden is estimated at 36 hours per year. For persons filing a notification of test marketing activity, the reporting burden is estimated at 1 hour per year. For persons keeping records of use of a substitute subject to use conditions or narrowed use limits, the recordkeeping burden is estimated at 27 hours per year. For persons keeping records of a small volume use, the recordkeeping burden is estimated at 12 hours per year.

Changes in the estimates: There is a decrease of 312 hours in the total estimated respondent burden compared with the ICR currently approved by OMB. The number of SNAP Information Notice submissions each year is expected to increase during the next 3 years. Many SNAP submissions are for chemicals or blends of alternatives previously found acceptable, so while the number of submissions is expected to increase, the burden of developing supporting information for most submissions is expected to decrease because it is easier to find and review information for substitutes previously reviewed. The SNAP submission forms have been revised to improve usability and ease burden on submitters by clarifying the information necessary for review based on the specific sector(s) and end-use(s) being pursued, and by eliminating redundancy. Also, the Agency encourages the submission of electronic files, reducing burden on respondents and the Agency for processing. EPA estimates a 20% reduction in the number of respondents responsible for recordkeeping for substitutes acceptable subject to use conditions and narrowed use limits because the increased availability of alternatives decreases the need for industry to use alternatives previously listed as acceptable subject to narrowed use limits.

Spencer Clark,
Acting Director, Collection Strategies Division.

[FR Doc. 2014-20280 Filed 8-26-14; 8:45 am]

BILLING CODE 6560-50-P